DEPARTMENT OF HOMELAND SECURITY

Coast Guard

[Docket No. USCG-2025-0348]

Cooperative Research and Development Agreement: Uncrewed Surface Vessels (USVs) for Maritime Safety and Security Operations

AGENCY: Coast Guard, DHS.

ACTION: Notice of intent; request for comments.

SUMMARY: The Coast Guard is announcing its intent to enter into a Cooperative Research and Development Agreement (CRADA) with Saronic Technologies, Inc. to research the potential of Uncrewed Surface Vessels (USVs) for maritime safety and security missions in extended offshore operations. The Coast Guard is seeking public comment on this proposed partnership and potential involvement from other parties. In addition, the Coast Guard also invites other potential non-Federal participants, who have the interest and capability to bring similar contributions to this type of research, to consider submitting proposals for consideration in similar CRADAs.

DATES: Your comments and related material must reach the Coast Guard on or before December 18, 2025.

ADDRESSES: You may submit comments identified by docket number USCG-2025-0348 using the Federal portal at https://www.regulations.gov. See the “Public Participation and Request for Comments” portion of the SUPPLEMENTARY INFORMATION section for further instructions on submitting comments.

FOR FURTHER INFORMATION CONTACT: If you have questions about this notice of intent, call or email Derek Meier, Principal Investigator, Autonomy Branch, U.S. Coast Guard Research and Development Center, 1 Chelsea Street, New London, CT 06320, telephone 860-271-2600, email RDC-info@uscg.mil.

SUPPLEMENTARY INFORMATION:

I. Table of Abbreviations

COLREG Convention on the International Regulations for Preventing Collisions at Sea

CRADA Cooperative Research and Development Agreement

DHS Department of Homeland Security

POC Proof of Concept

TTP Tactics, Techniques, and Procedures

USV Uncrewed Surface Vessel

U.S.C.G. United States Coast Guard

U.S.C. United States Code

II. Background and Purpose

The Coast Guard is working to determine the performance, reliability, integration, and mission impacts of deploying autonomous USV platforms. This effort will evaluate the advantages, disadvantages, required technology enhancements, and mission benefits of integrating collaborative USVs in offshore operations covering territorial waters and the Exclusive Economic Zone (EEZ), utilizing commercially available USVs. Through this POC, the Coast Guard also seeks to develop information representative of future USCG TTPs to better inform USV mission integration in the context of maritime security and safety operations.

III. Public Participation and Request for Comments

We request public comments on this notice. Although we do not plan to respond to comments in the Federal Register, we will respond directly to commenters and may modify our proposal in light of comments.

We encourage you to submit comments in response to this notice of inquiry through the Federal Document Management System at https://www.regulations.gov. To do so, go to https://www.regulations.gov, type USCG-2025-0348 in the search box and click “Search.” Next, look for this document in the Search Results column, and click on it. Then click on the Comment option. In your submission, please include the docket number for this notice of inquiry and provide a reason for each suggestion or recommendation. If your material cannot be submitted using https://www.regulations.gov, contact the person in the FOR FURTHER INFORMATION CONTACT section of this document for alternate instructions. Public comments will also be placed in our online docket and can be viewed by following instructions on the https://www.regulations.gov Frequently Asked Questions web page.

We accept anonymous comments. Comments we post to https://www.regulations.gov will include any personal information you have provided. For more about privacy and submissions in response to this document, see DHS's eRulemaking System of Records notice (85 FR 14226, March 11, 2020).

IV. Discussion

CRADAs are authorized under 15 U.S.C. 3710a.¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other types of agreements.

Under the proposed CRADA, the U.S. Coast Guard Research and Development Center (R&D Center) will collaborate with one non-Federal participant. Together, the R&D Center and the non-Federal participant will execute testing that will evaluate the advantages, disadvantages, required technology enhancements, and mission benefits of USV deployments in extended offshore operations performing maritime safety and security mission sets. This testing will evaluate the ability for multi-USV mission planning and execution from a single command and control interface.

This is a technology assessment effort. The goal for this CRADA is to work with an industry partner to develop a better understanding of the performance, reliability, integration, and mission impact of deploying autonomous collaborative USV platforms.

This could include the following:

1. USVs that are readily available for testing and operational evaluation.

2. Command/control systems for USV platforms.

3. Command/control or other systems to develop uncrewed systems teaming.

4. Autonomy systems for collision avoidance and Convention on the International Regulations for Preventing Collisions at Sea (COLREG) compliance.

5. Network connectivity solutions for uncrewed surface platforms.

We anticipate that the Coast Guard's contributions under the proposed CRADA will include the following:

1. Provide staff with the expertise to support the tasks.

2. Provide resources and travel for the Coast Guard staff that support this CRADA.

3. Write a test plan in collaboration with the non-Federal participant.

4. Secure approvals for field test events, per test plans, as appropriate.

5. Provide sufficient crew, planning, and coordination to execute the testing in accordance with the agreed upon test plan.

6. Ship the necessary parts, tools, and equipment to facilitate testing or operational evaluations.

7. Coordinate participating USCG units and government stakeholders.

8. Execute agreed upon test plan.

9. Write a report in collaboration with the non-Federal participant.

We anticipate that the non-Federal participant's contributions under the proposed CRADA will include the following:

1. Provide staff with the expertise to support the tasks.

2. Provide test assets for fielding in mutually agreed upon test area.

3. Provide all support resources, including travel, for Saronic Technologies, Inc. staff who support this CRADA, if required.

4. Review test plan.

5. Provide the technology, technical data, and other technical considerations for any systems to be utilized under this CRADA.

6. Provide the technical data for all equipment, including dimensions, weight, power requirements, and other technical considerations for non-Federal participant's components to be utilized under this CRADA.

7. Assist with installation of equipment required to perform testing, if required.

8. Provide any specific training, along with mutually agreed upon technical support, to the joint test team evaluating the technology.

9. Provide any specific training to those Coast Guard members evaluating the technology.

10. Provide mutually agreed upon resources required to execute the test plan, as required.

11. Write a report in collaboration with the R&D Center.

The Coast Guard reserves the right to select for CRADA participants all, some, or no proposals submitted for this CRADA. The Coast Guard will provide no funding for reimbursement of proposal development costs. Proposals and any other material submitted in response to this notice will not be returned. Proposals submitted are expected to be unclassified and be no more than five single-sided pages (excluding cover page, DD 1494, and JF-12). The Coast Guard will select proposals at its sole discretion based on:

1. How well they communicate an understanding of and ability to meet, the proposed CRADA's goal; and

2. How well they address the following criteria:

a. Technical capability to support the non-Federal party contributions described, and

b. Resources available for supporting the non-Federal party contributions described.

Currently, the Coast Guard is considering Saronic Technologies, Inc. for participation in this CRADA. This consideration is based on the fact that Saronic Technologies, Inc. manufactures and develops commercially available USV platforms, platform/sensor Command and Control (C2), and other USV systems. However, we do not wish to exclude other viable participants from this or similar CRADAs in the future.

Special consideration will be given to small business firms or consortia, and preference will be given to business units located in the United States. This notice is issued under the authority of 5 U.S.C. 552(a).

Dated: November 12, 2025.
M.P. Chien,
Captain, Commanding Officer, U.S. Coast Guard Research and Development Center.

[FR Doc. 2025-20215 Filed 11-17-25; 8:45 am]

BILLING CODE 9110-04-P